DEPARTMENT OF HOMELAND SECURITY

Federal Emergency Management Agency

44 CFR Part 67

[Docket ID FEMA-2013-0002; Internal Agency Docket No. FEMA-B-1212]

Proposed Flood Elevation Determinations

AGENCY: Federal Emergency Management Agency, DHS.

ACTION: Proposed rule; correction.

SUMMARY: On August 17, 2011, FEMA published in the Federal Register a proposed rule that contained an erroneous table. This notice provides corrections to that table, to be used in addition to the information published at 76 FR 50960. The table provided here represents the flooding sources, location of referenced elevations, effective and modified elevations, and communities affected for Pitt County, North Carolina, and Incorporated Areas. Specifically, it addresses the following flooding sources: Pea Branch and Reedy Branch.

DATES: Comments are to be submitted on or before July 15, 2013.

ADDRESSES: You may submit comments, identified by Docket No. FEMA-B-1212, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) Luis.Rodriguez3@fema.dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

In the proposed rule published at 76 FR 50960, in the August 17, 2011, issue of the Federal Register, FEMA published a table under the authority of 44 CFR 67.4. The table, entitled “Pitt County, North Carolina, and Incorporated Areas” did not address the flooding sources Pea Branch and Reedy Branch. That table omitted information as to the location of referenced elevation, effective and modified elevation in feet, and communities affected for those flooding sources. In this document, FEMA is publishing a table containing the accurate information, to address these prior errors. The information provided below should be used in addition to that previously published.

Correction

In proposed rule FR Doc. 2011-20966, beginning on page 50952 in the issue of August 17, 2011, make the following correction. On page 50957, add the following:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Pitt County, North Carolina, and Incorporated Areas
Pea Branch | At the Tranters Creek confluence | +15 | +14 | Unincorporated areas of Pitt County.
| Approximately 1,250 feet upstream of the Tranters Creek confluence | +15 | +14
Reedy Branch | At Wright Road | +35 | +36 | City of Greenville.
| Approximately 400 feet upstream of the railroad | +66 | +68
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Greenville
Maps are available for inspection at the Department of Public Works, 1500 Beatty Street, Greenville, NC 27834.
Unincorporated Areas of Pitt County
Maps are available for inspection at the Pitt County Planning Department, 1717 West 5th Street, Greenville, NC 27834.

(Catalog of Federal Domestic Assistance No. 97.022, “Flood Insurance.”)

Roy E. Wright,
Deputy Associate Administrator for Mitigation, Department of Homeland Security, Federal Emergency Management Agency.

[FR Doc. 2013-08043 Filed 4-12-13; 8:45 am]

BILLING CODE 9110-12-P